ENVIRONMENTAL PROTECTION AGENCY

[WH-FRL-7084-6]

U.S. EPA Reschedule Notice of the Public Meeting on the Draft Strategy for Waterborne Microbial Disease

AGENCY: Environmental Protection Agency (EPA).

ACTION: Notice.

SUMMARY: This action announces the rescheduled public meeting on the Draft Strategy for Waterborne Microbial Disease. The Environmental Protection Agency (EPA) is holding a meeting on November 6, 2001, to present to interested parties the Draft Strategy for Waterborne Microbial Disease. The draft Strategy explains suggested approaches to reducing microbial pollution of the Nation's waters. Interested parties will have an opportunity to comment on the approaches listed in the draft Strategy at this meeting. In addition interested parties may provide written comments on the draft strategy by November 15, 2001.

DATES: The public meeting concerning the Draft Strategy for Waterborne Microbial Disease will be held November 6, 2001, from 8 a.m. to 5 p.m. EST.

ADDRESSES: The meeting will be held at the Hilton Crystal City Hotel, 2399 Jefferson Davis Highway, Arlington, Virginia, in the Dewey conference room. Sciences, Inc. (an EPA contractor) will provide logistical support for the meeting.

FOR FURTHER INFORMATION CONTACT: For information about the meeting, please contact Ms. Harriet McCollum at Sciences, Inc., 1800 Diagonal Road, Suite 500, Alexandria, VA 23314; phone (703) 684-0123; fax (703) 684-2223, or email at hmccollum@sciences.com.

Approximately 100 seats will be available on a first-come, first serve basis. On-site registration for the meeting will begin at 8 am, EST. Members of the public wishing to attend the meeting may pre-register by phone by contacting Ms. McCollum by October 24, 2001. Those registered by October 24, 2001 will receive background materials prior to the meeting.

For information concerning the Draft Strategy for Waterborne Microbial Disease, or a copy of the draft Strategy please, contact Lisa Almodovar, at the U. S. Environmental Protection Agency, 1200 Pennsylvania Avenue, NW, (MC-4304), Washington, DC 20460; phone: (202) 260-1310, fax: (202) 260-1036 or email at almodovar.lisa@epa.gov. Copies of the draft Strategy are available on EPA's Internet at www.epa.gov/ost/criteria/microbialdraft.pdf.

SUPPLEMENTARY INFORMATION: EPA, States, local governments and the private sector have made significant strides in reducing water pollution. Much of this progress is the result of controls on pollution from industries and sewage treatment facilities. Despite this progress, States report that about 30% of the waters they assess do not meet clean water goals. Today, water pollution problems are caused by a wide range of diffuse sources (e.g. pollutant runoff from agricultural lands, stormwater flows from cities, inadequate sewage treatment, and seepage into ground water). Many of these sources contribute microbial contaminants to waterbodies and this contamination impairs the use of waters for recreational, fishing, and shellfish growing purposes and limits use of waters as a source of drinking water.

In response to growing evidence of significant microbial contamination of waters, the Office of Water has prepared a Draft Strategy for Waterborne Microbial Disease. This draft Strategy describes the microbial water pollution problem and identifies four areas of concern as the primary focus of efforts to reduce water pollution and threats to public health.

EPA seeks public comment on all aspects of the draft Strategy. Examples of questions that might be addressed by the public include:

(1) Does the draft Strategy appropriately describe the water pollution problem and public health risk posed by microbial contamination?

(2) The draft Strategy emphasizes four areas of concern. Are these four areas appropriate as the focus of the draft Strategy? If not, which other areas of concern should be addressed and why?

(3) Are the actions identified to strengthen water pollution control programs appropriate? What other actions should be considered?

EPA will produce a report that will summarize the meeting as well as capture all comments and suggestions. Submitted written comments will also be included in the document. Comments must be submitted to Ms. Harriet McCollum at Sciences, Inc., 1800 Diagonal Road, Suite 500, Alexandria, VA 23314; phone (703) 684-0123; fax (703) 684-2223, or email at hmccollum@sciences.com, by October 24, 2001.

Dated: October 3, 2001.
Geoffrey H. Grubbs,
Director, Office of Science and Technology.

[FR Doc. 01-25965 Filed 10-15-01; 8:45 am]

BILLING CODE 6560-50-P